DEPARTMENT OF AGRICULTURE

Submission for OMB Review; Comment Request

May 19, 2022.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 23, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Servicing Minor Program Loans.

OMB Control Number: 0560-0230.

Summary of Collection: The Farm Service Agency (FSA) Farm Loan Program staff provides supervised credit in the form of loans to family farmers and ranchers to purchase land and finance agricultural production. Regulations are promulgated to implement selected provisions of sections 331 and 335 of the Consolidated Farm and Rural Development Act (CONACT). FSA is authorized under the Section 331 to grant releases from personal liability where security property is transferred to approve applicants who, under agreement, assume the outstanding secured indebtedness and to provide servicing authority covered in the Section 335 for real estate security; operation or lease of realty, disposition of surplus property; conveyance of complete interest of the United States; easements; and condemnations. The information is also collected from FSA Minor Program borrowers who may be individual farmers or farming partnerships, associations, or corporations.

Need and Use of the Information: FSA will collect information related to a program benefit recipient or loan borrower requesting action on security they own, which was purchased with FSA loan funds, improved with FSA loan funds or has otherwise been mortgaged to FSA to secure a government loan. The information collected is primarily financial data, such as borrower's asset values, current financial information and public use and employment data. The information collection will be used solely by the Farm Loan Programs in FSA. Failure to obtain this information at the time of the request for servicing will result in rejection of the borrower's request.

Description of Respondents: Farms; Individuals or households; Business or other-for-profit; Not-for-profit institutions; State. Local and Tribal Government.

Number of Respondents: 58.

Frequency of Responses: Reporting: On occasion; Annually.

Total Burden Hours: 37.

Farm Service Agency

Title: Oriental Fruit Fly (OFF) Program.

OMB Control Number: 0560-0306.

Summary of Collection: The USDA has directed Farm Service Agency (FSA) to implement the Oriental Fruit Fly Program (OFF) for producers of agricultural commodities who suffered a revenue loss in calendar years 2015 and/or 2016 due to the APHIS imposed quarantine in Miami-Dade County Florida, August 28, 2015 through February 13, 2016. FSA establishes provisions for providing assistance as authorized by Section 778 of the Consolidated Appropriation Act of 2019 (Pub. L. 116-6), which appropriated $9 million to the FSA for the purpose of making payments to producers impacted by an Oriental Fruit Fly Quarantine. Funds will remain available until expended. FSA has established the regulation as specified in the 7 CFR 756.

Need and Use of the Information: The information submitted by producers will be used by FSA to determine eligibility and distribute payments to eligible producers under OFF program. In order to determine whether a producer is eligible for OFF and to calculate a payment, a producer is required to submit FSA-438, OFF application; CCC-901, Member Information for Legal Entities, as applicable; CCC-902E, Farm Operating Plan for An Entity; CCC-941, Average Adjusted Gross Income (AGI) Certification and Consent to Disclosure of Tax Information; and CCC-942, Certification of Income from Farming, Ranching, and Forestry Operations, Optional, and AD-1026—Highly Erodible Land Conservation (HELC) and Wetland Conservation Certification. Failure to solicit applications will result in failure to provide payments to eligible producers as intended by Public Law 116-6, Consolidated Appropriations Act of 2019.

Description of Respondents: Farms.

Number of Respondents: 750.

Frequency of Responses: Reporting; On occasion.

Total Burden Hours: 522.

Ruth Brown,
Departmental Information Collection Clearance Officer.

[FR Doc. 2022-11102 Filed 5-23-22; 8:45 am]

BILLING CODE 3410-05-P